DEPARTMENT OF THE INTERIOR

Bureau of Land Management

[CO-03-840-1610-241A]

Canyons of the Ancients National Monument Advisory Committee Meeting; Call for Nominations

AGENCY: Bureau of Land Management, Interior.

ACTION: Call for Nominations for the Canyons of the Ancients National Monument Advisory Committee, to fill ten positions.

SUMMARY: The Bureau of Land Management is publishing this notice under section 9(a)(2) of the Federal Advisory Committee Act, and BLM regulations found at 43 CFR Subpart 1784. The notice requests the public to submit nominations for membership on the Canyons of the Ancients Advisory Committee (Committee). The Committee is necessary to advise the Secretary and BLM on resource management issues associated with Canyons of the Ancients National Monument.

DATES: Submit a completed nomination form and nomination letters to the address listed below no later than June 18, 2007.

ADDRESSES: Send nominations to: Manager, Canyons of the Ancients National Monument, Bureau of Land Management, 27501 Highway 184, Delores, Colorado 81323.

FOR FURTHER INFORMATION CONTACT: Heather Musclow, Planner, 970-882-5632, LouAnn Jacobson, Manager, 970-882-5600, or e-mail Heather_Musclow@blm.gov, or visit the monument Web site at http://www.co.blm.gov/canm/.

SUPPLEMENTARY INFORMATION: Any individual or organization may nominate one or more persons to serve on the Canyons of the Ancients National Monument Advisory Committee. Individuals may nominate themselves for Committee membership. Individuals currently or previously on the Committee are eligible to reapply. You may obtain nomination forms from the Canyons of the Ancients National Monument Manager, BLM (see CONTACT INFORMATION, above). To make a nomination, you must submit a completed nomination form, letters of reference from the represented interests or organizations, as well as any other information that speaks to the nominee's qualifications, to the Canyons of the Ancients National Monument Manager. You may make nominations for the following categories of interest:

• One representative of the Montezuma County Commission (appointed from nominees submitted by the Montezuma County Commission);

• Two person from any of the following tribes and pueblos representing Native American interests: The Ute Mountain Tribe, The Uintah-Ouray Ute Tribe, The Southern Ute Tribe, The Navajo Nation, The Hopi Tribe, The Pueblo of Acoma, The Pueblo of Cochiti, The Pueblo of Isleta, The Pueblo of San Felipe, The Pueblo of Santa Ana, The Pueblo of Santo Domingo, The Pueblo of Jemez, The Pueblo of Laguna, The Pueblo of Sandia, The Pueblo of Zia, The Pueblo of Zuni, The Pueblo of Nambe, The Pueblo of San Juan, The Pueblo of Picuris, The Pueblo of Pojoaque, The Pueblo of San Ildefonso, The Pueblo of Santa Clara, The Pueblo of Taos, The Pueblo of Tesuque (appointed from nominees submitted by the BLM);

• Two persons who are recognized cultural resource representatives, one of whom represents regional interests and one of whom is from the local area (appointed from nominees submitted by the BLM);

• One person who is a grazing permittee on Federal lands in the CANM (appointed from nominees submitted by the BLM);

• One person who represents fluid minerals development (appointed from nominees submitted by the BLM);

• Three people representing any of the following: private landowners in or adjacent to the CANM, recognized national or regional environmental or resource conservation organizations, off-road vehicle use, commercial recreation, and/or representing statewide perspectives with no financial interest in the CANM (appointed from nominees submitted by the BLM).

The specific category the nominee would like to represent should be identified in the letter of nomination and the nomination form. The Canyons of the Ancients National Monument Manager will collect the nominations forms and letters of reference and distribute them to the officials responsible for submitting nominations (Montezuma County Commission and the Bureau of Land Management). The BLM will then forward recommended nominations to the Secretary, who has responsibility for making the appointments.

The purpose of the Committee is to advise the BLM concerning development and implementation of a management plan for public lands within Canyons of the Ancients National Monument. Each member will be a person who, as a result of training and experience, has knowledge or special expertise which qualifies him or her to provide advice from among the categories of interest listed above.

Members will serve without monetary compensation, but will be reimbursed for travel and per diem expenses at current rates for Government employees. The membership term will be for two years.

LouAnn Jacobson,
Monument Manager, Canyons of the Ancients National Monument.

[FR Doc. E7-9587 Filed 5-17-07; 8:45 am]

BILLING CODE 4310-JB-P